DEPARTMENT OF HOMELAND SECURITY

Federal Emergency Management Agency

[Docket ID: FEMA-2020-0039; OMB No. 1660-0006]

Agency Information Collection Activities: Submission for OMB Review; Comment Request; National Flood Insurance Program Policy Forms

Correction

In notice document 2021-06875, appearing on page 17615-17616, in the issue of Monday, April 5, 2021, make the following correction:

On page 17616, in the first column, in the DATES section, “November 4, 2022” should read “May 5, 2021”.

[FR Doc. C1-2021-06875 Filed 4-8-21; 8:45 am]

BILLING CODE 1301-00-P